DEPARTMENT OF ENERGY

Federal Energy Regulatory Commission

Combined Notice of Filings

Take notice that the Commission has received the following Natural Gas Pipeline Rate and Refund Report filings:

Filings Instituting Proceedings

Docket Numbers: PR25-11-000.

Applicants: Matterhorn Express Pipeline, LLC.

Description: § 284.123 Rate Filing: Petition for NGPA Sec. 311 Rate Approval to be effective 10/1/2024.

Filed Date: 10/31/24.

Accession Number: 20241031-5203.

Comment Date: 5 p.m. ET 11/21/24.

Docket Numbers: PR25-12-000.

Applicants: New Mexico Gas Company, Inc.

Description: § 284.123(g) Rate Filing: Amended Statement of Operating Conditions to be effective 10/1/2024.

Filed Date: 10/31/24.

Accession Number: 20241031-5244.

Comment Date: 5 p.m. ET 11/21/24.

§ 284.123(g) Protest: 5 p.m. ET 12/30/24.

Docket Numbers: PR25-13-000.

Applicants: Interstate Power and Light Company.

Description: § 284.123(g) Rate Filing: Update IPL SOC to be effective 11/1/2024.

Filed Date: 10/31/24.

Accession Number: 20241031-5335.

Comment Date: 5 p.m. ET 11/21/24.

§ 284.123(g) Protest: 5 p.m. ET 12/30/24.

Docket Numbers: RP25-130-000.

Applicants: Algonquin Gas Transmission, LLC.

Description: § 4(d) Rate Filing: AGT FRQ 2024 Filing to be effective 12/1/2024.

Filed Date: 10/31/24.

Accession Number: 20241031-5212.

Comment Date: 5 p.m. ET 11/12/24.

Docket Numbers: RP25-131-000.

Applicants: NEXUS Gas Transmission, LLC.

Description: § 4(d) Rate Filing: Negotiated Rates—Various Releases eff 11-1-2024 to be effective 11/1/2024.

Filed Date: 10/31/24.

Accession Number: 20241031-5213.

Comment Date: 5 p.m. ET 11/12/24.

Docket Numbers: RP25-132-000.

Applicants: East Tennessee Natural Gas, LLC.

Description: § 4(d) Rate Filing: Operational Purchases and Sales and System Balancing Adjustment Filing to be effective 12/1/2024.

Filed Date: 10/31/24.

Accession Number: 20241031-5217.

Comment Date: 5 p.m. ET 11/12/24.

Docket Numbers: RP25-133-000.

Applicants: Algonquin Gas Transmission, LLC.

Description: § 4(d) Rate Filing: Negotiated Rates—Various Releases eff 11-1-24 to be effective 11/1/2024.

Filed Date: 10/31/24.

Accession Number: 20241031-5219.

Comment Date: 5 p.m. ET 11/12/24.

Docket Numbers: RP25-134-000.

Applicants: Texas Eastern Transmission, LP.

Description: § 4(d) Rate Filing: TETLP ASA DEC 2024 Filing to be effective 12/1/2024.

Filed Date: 10/31/24.

Accession Number: 20241031-5229.

Comment Date: 5 p.m. ET 11/12/24.

Docket Numbers: RP25-135-000.

Applicants: Northern Natural Gas Company.

Description: § 4(d) Rate Filing: 20241031 Negotiated Rate to be effective 11/1/2024.

Filed Date: 10/31/24.

Accession Number: 20241031-5258.

Comment Date: 5 p.m. ET 11/12/24.

Docket Numbers: RP25-136-000.

Applicants: Florida Gas Transmission Company, LLC.

Description: § 4(d) Rate Filing: New Service Agreement—City of Walker to be effective 11/1/2024.

Filed Date: 10/31/24.

Accession Number: 20241031-5260.

Comment Date: 5 p.m. ET 11/12/24.

Docket Numbers: RP25-137-000.

Applicants: Wyoming Interstate Company, L.L.C.

Description: § 4(d) Rate Filing: Fuel_LU Quarterly Update Filing Eff Dec 2024 to be effective 12/1/2024.

Filed Date: 10/31/24.

Accession Number: 20241031-5264.

Comment Date: 5 p.m. ET 11/12/24.

Docket Numbers: RP25-138-000.

Applicants: Florida Gas Transmission Company, LLC.

Description: § 4(d) Rate Filing: Update Non-Conforming List—City of Walker to be effective 11/1/2024.

Filed Date: 10/31/24.

Accession Number: 20241031-5268.

Comment Date: 5 p.m. ET 11/12/24.

Docket Numbers: RP25-139-000.

Applicants: Rockies Express Pipeline LLC.

Description: § 4(d) Rate Filing: REX 2024-10-31 Negotiated Rate Agreements and Amendments to be effective 11/1/2024.

Filed Date: 10/31/24.

Accession Number: 20241031-5271.

Comment Date: 5 p.m. ET 11/12/24.

Docket Numbers: RP25-140-000.

Applicants: El Paso Natural Gas Company, L.L.C.

Description: § 4(d) Rate Filing: Negotiated Rate Agreement Update (SoCal Nov-Jan) to be effective 11/1/2024.

Filed Date: 10/31/24.

Accession Number: 20241031-5294.

Comment Date: 5 p.m. ET 11/12/24.

Docket Numbers: RP25-141-000.

Applicants: Texas Gas Transmission, LLC.

Description: § 4(d) Rate Filing: Henderson Minimum Rates Housekeeping Filing to be effective 12/1/2024.

Filed Date: 10/31/24.

Accession Number: 20241031-5310.

Comment Date: 5 p.m. ET 11/12/24.

Docket Numbers: RP25-142-000.

Applicants: Transcontinental Gas Pipe Line Company, LLC.

Description: § 4(d) Rate Filing: Non-Conforming—SRE In-Service to be effective 12/1/2024.

Filed Date: 10/31/24.

Accession Number: 20241031-5319.

Comment Date: 5 p.m. ET 11/12/24.

Docket Numbers: RP25-143-000.

Applicants: Transcontinental Gas Pipe Line Company, LLC.

Description: § 4(d) Rate Filing: Non-Conforming—Leidy Southeast_WGL Superseding to be effective 12/1/2024.

Filed Date: 10/31/24.

Accession Number: 20241031-5339.

Comment Date: 5 p.m. ET 11/12/24.

Docket Numbers: RP25-144-000.

Applicants: Viking Gas Transmission Company.

Description: § 4(d) Rate Filing: Update to Non-Conforming Agreement AF0022 to be effective 11/1/2024.

Filed Date: 10/31/24.

Accession Number: 20241031-5353.

Comment Date: 5 p.m. ET 11/12/24.

Docket Numbers: RP25-145-000.

Applicants: Equitrans, L.P.

Description: § 4(d) Rate Filing: Negotiated Rate Agreement—11/1/2024 to be effective 11/1/2024.

Filed Date: 11/1/24.

Accession Number: 20241101-5004.

Comment Date: 5 p.m. ET 11/13/24.

Docket Numbers: RP25-146-000.

Applicants: Enable Mississippi River Transmission, LLC.

Description: Compliance filing: 2024 Annual Report of Penalty Revenue Credits to be effective N/A.

Filed Date: 11/1/24.

Accession Number: 20241101-5009.

Comment Date: 5 p.m. ET 11/13/24.

Docket Numbers: RP25-147-000.

Applicants: Enable Gas Transmission, LLC.

Description: Compliance filing: 2024 Annual Report of Total Penalty Revenue Credits to be effective N/A.

Filed Date: 11/1/24.

Accession Number: 20241101-5011.

Comment Date: 5 p.m. ET 11/13/24.

Docket Numbers: RP25-148-000.

Applicants: Enable Gas Transmission, LLC.

Description: Compliance filing: 2024 Annual Report of Linked Firm Service Penalty Revenue Credits to be effective N/A.

Filed Date: 11/1/24.

Accession Number: 20241101-5012.

Comment Date: 5 p.m. ET 11/13/24.

Docket Numbers: RP25-149-000.

Applicants: Gulf Run Transmission, LLC.

Description: Compliance filing: 2024 Annual Report of Penalty Revenue Credits to be effective N/A.

Filed Date: 11/1/24.

Accession Number: 20241101-5013.

Comment Date: 5 p.m. ET 11/13/24.

Docket Numbers: RP25-150-000.

Applicants: Texas Eastern Transmission, LP.

Description: § 4(d) Rate Filing: Negotiated Rates—BUG Co Nat 911814 Releases to be effective 11/1/2024.

Filed Date: 11/1/24.

Accession Number: 20241101-5024.

Comment Date: 5 p.m. ET 11/13/24.

Docket Numbers: RP25-151-000.

Applicants: Mountain Valley Pipeline, LLC.

Description: § 4(d) Rate Filing: Negotiated Rate Capacity Release Agreements—11/1/2024 to be effective 11/1/2024.

Filed Date: 11/1/24.

Accession Number: 20241101-5029.

Comment Date: 5 p.m. ET 11/13/24.

Docket Numbers: RP25-152-000.

Applicants: Rover Pipeline LLC.

Description: § 4(d) Rate Filing: Summary of Negotiated Rate Capacity Release Agreements 11-1-2024 to be effective 11/1/2024.

Filed Date: 11/1/24.

Accession Number: 20241101-5040.

Comment Date: 5 p.m. ET 11/13/24.

Docket Numbers: RP25-153-000.

Applicants: ANR Pipeline Company.

Description: § 4(d) Rate Filing: ANR—Negotiated Rate Agreements, Eff 11.1.24 to be effective 11/1/2024.

Filed Date: 11/1/24.

Accession Number: 20241101-5041.

Comment Date: 5 p.m. ET 11/13/24.

Docket Numbers: RP25-154-000.

Applicants: Columbia Gulf Transmission, LLC.

Description: § 4(d) Rate Filing: CGT SWN Amend & Vitol NR Agmts, eff. 11.1.24 to be effective 11/1/2024.

Filed Date: 11/1/24.

Accession Number: 20241101-5048.

Comment Date: 5 p.m. ET 11/13/24.

Docket Numbers: RP25-155-000.

Applicants: Texas Eastern Transmission, LP.

Description: § 4(d) Rate Filing: Negotiated Rates—Various Releases eff 11-1-24 to be effective 11/1/2024.

Filed Date: 11/1/24.

Accession Number: 20241101-5049.

Comment Date: 5 p.m. ET 11/13/24.

Docket Numbers: RP25-156-000.

Applicants: Equitrans, L.P.

Description: § 4(d) Rate Filing: Negotiated Rate Capacity Release Agreements—11/1/2024 to be effective 11/1/2024.

Filed Date: 11/1/24.

Accession Number: 20241101-5051.

Comment Date: 5 p.m. ET 11/13/24.

Docket Numbers: RP25-157-000.

Applicants: Great Lakes Gas Transmission Limited Partnership.

Description: § 4(d) Rate Filing: TCPL—18966_8 Neg. Rate Amendment to be effective 11/1/2024.

Filed Date: 11/1/24.

Accession Number: 20241101-5061.

Comment Date: 5 p.m. ET 11/13/24.

Docket Numbers: RP25-158-000.

Applicants: Trunkline Gas Company, LLC.

Description: § 4(d) Rate Filing: Negotiated Rate Filing—NextEra Energy to be effective 11/1/2024.

Filed Date: 11/1/24.

Accession Number: 20241101-5072.

Comment Date: 5 p.m. ET 11/13/24.

Docket Numbers: RP25-159-000.

Applicants: Northern Border Pipeline Company.

Description: § 4(d) Rate Filing: Negotiated Rate Agreement—Northern States 284364 to be effective 11/1/2024.

Filed Date: 11/1/24.

Accession Number: 20241101-5079.

Comment Date: 5 p.m. ET 11/13/24.

Docket Numbers: RP25-160-000.

Applicants: Columbia Gas Transmission, LLC.

Description: § 4(d) Rate Filing: OTRA Winter 2024 to be effective 12/1/2024.

Filed Date: 11/1/24.

Accession Number: 20241101-5085.

Comment Date: 5 p.m. ET 11/13/24.

Docket Numbers: RP25-161-000.

Applicants: Columbia Gas Transmission, LLC.

Description: § 4(d) Rate Filing: TCO Negotiated Rate Agreements Eff 11.1.24 to be effective 11/1/2024.

Filed Date: 11/1/24.

Accession Number: 20241101-5094.

Comment Date: 5 p.m. ET 11/13/24.

Docket Numbers: RP25-162-000.

Applicants: Texas Eastern Transmission, LP.

Description: § 4(d) Rate Filing: Negotiated Rates—Con Ed 910950 Releases eff 11-1-24 to be effective11/1/2024.

Filed Date: 11/1/24.

Accession Number: 20241101-5099.

Comment Date: 5 p.m. ET 11/13/24.

Docket Numbers: RP25-163-000.

Applicants: Columbia Gas Transmission, LLC.

Description: § 4(d) Rate Filing: Capacity Releases Eff 11.1.24 to be effective 11/1/2024.

Filed Date: 11/1/24.

Accession Number: 20241101-5100.

Comment Date: 5 p.m. ET 11/13/24.

Docket Numbers: RP25-164-000.

Applicants: Natural Gas Pipeline Company of America LLC.

Description: § 4(d) Rate Filing: Negotiated Rate Agreements Filing-Devon Gas Services, L.P. to be effective 11/1/2024.

Filed Date: 11/1/24.

Accession Number: 20241101-5102.

Comment Date: 5 p.m. ET 11/13/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR24-96-001.

Applicants: DCP Raptor Pipeline, LLC.

Description: Amendment Filing: 2024 Rate Petition to be effective 12/31/9998.

Filed Date: 10/31/24.

Accession Number: 20241031-5303.

Comment Date: 5 p.m. ET 11/21/24.

§ 284.123(g) Protest: 5 p.m. ET12/30/24.

Docket Numbers: RP24-617-002.

Applicants: East Tennessee Natural Gas, LLC.

Description: Compliance filing: Revised 2022-2023 ETNG Cashout Report to be effective N/A.

Filed Date: 10/31/24.

Accession Number: 20241031-5209.

Comment Date: 5 p.m. ET 11/12/24.

Docket Numbers: RP24-744-005.

Applicants: Southern Natural Gas Company, L.L.C.

Description: Compliance filing: SNG Motion to Place Suspended Revisedf Tariff Records into Effect to be effective 11/1/2024.

Filed Date: 10/31/24.

Accession Number: 20241031-5176.

Comment Date: 5 p.m. ET 11/12/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 1, 2024.
Carlos D. Clay,
Acting Deputy Secretary.

[FR Doc. 2024-25888 Filed 11-6-24; 8:45 am]

BILLING CODE 6717-01-P